DEPARTMENT OF TRANSPORTATION

Federal Highway Administration

[Docket No. FHWA-2013-0015]

2013 Temporary Closure of I-395 Just South of Conway Street in the City of Baltimore to Vehicular Traffic To Accommodate the Construction and Operation of the Baltimore Grand Prix

AGENCIES: Federal Highway Administration (FHWA), DOT.

ACTION: Notice and Request for Comment.

SUMMARY: The Maryland Transportation Authority (MDTA) has requested FHWA approval of MDTA's proposed plan to temporarily close a portion of I-395 in Maryland (just south of Conway Street in Baltimore City) from approximately 7 p.m. on Wednesday, August 28, 2013, until approximately 6 a.m. on Tuesday, September 3, 2013. The closure is requested to accommodate the construction and operation of the Baltimore Grand Prix (BGP), which will use the streets of downtown Baltimore as a race course. The request is based on the provisions in 23 CFR 658.11 which authorizes the deletion of segments of the federally designated routes that make up the National Network designated in Appendix A of 23 CFR part 658 upon approval by the FHWA.

The FHWA seeks comments from the general public on this request submitted by the MDTA for a deletion in accordance with section 658.11(d) for the considerations discussed in this notice.

DATES: Comments must be received on or before 30 days after date of publication in the Federal Register.

ADDRESSES: The letter of request along with justifications can be viewed electronically at the docket established for this notice at http://www.regulations.gov. Hard copies of the documents will also be available for viewing at the DOT address listed below.

Mail or hand deliver comments to the U.S. Department of Transportation, Dockets Management Facility, Room W12-140, 1200 New Jersey Avenue SE., Washington, DC 20590, or fax comments to (202) 493-2251. Alternatively, comments may be submitted via the Federal eRulemaking Portal at http://www.regulations.gov (follow the on-line instructions for submitting comments). All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. All comments received into any docket may be searched in electronic format by the name of the individual submitting the comment (or signing the comment, if submitted on behalf of an association, business, labor union, etc.). Persons making comments may review DOT's complete Privacy Act Statement in the Federal Register published on April 11, 2000 (Volume 65, Number 70, Pages 19477-78), or you may view the statement at http://www.regulations.gov.

FOR FURTHER INFORMATION CONTACT: Ms. Crystal Jones, Office of Freight Management and Operations, Office of Operations, (202) 366-2976, Mr. Bill Winne, Office of the Chief Counsel, (202) 366-0791, Federal Highway Administration, 1200 New Jersey Avenue SE., Washington, DC 20590, and Mr. Gregory Murrill, FHWA Division Administrator-DELMAR Division, (410) 962-4440. Office hours for the FHWA are from 8:00 a.m. to 4:30 p.m., e.t., Monday through Friday, except Federal holidays.

SUPPLEMENTARY INFORMATION:

Electronic Access and Filing

You may submit or retrieve comments online through the Federal eRulemaking portal at: http://www.regulations.gov. The Web site is available 24 hours every day of the year. Electronic submission and retrieval help and guidelines are available under the help section of the Web site.

An electronic copy of this document may also be downloaded from Office of the Federal Register's home page at: http://www.archives.gov/federal_register and the Government Printing Office's Web page at: http://www.gpoaccess.gov.

Background

The FHWA is responsible for enforcing the Federal regulations applicable to the National Network of highways that can safely and efficiently accommodate the large vehicles authorized by provisions of the Surface Transportation Assistance Act of 1982, as amended, designated in accordance with 23 CFR part 658 and listed in Appendix A. In accordance with section 658.11, the FHWA may approve deletions or restrictions of the Interstate System or other National Network routes based upon specified justification criteria in section 658.11(d)(2). These deletions are then published in the Federal Register for notice and comment.

The MDTA has submitted a request to the FHWA for approval of the temporary closure of I-395 just south of Conway Street in the city of Baltimore from the period beginning Wednesday, August 28, 2013, at approximately 7 p.m. through Tuesday, September 3, 2013, at around 6 a.m., encompassing the Labor Day holiday. The incoming request and supporting documents, including maps, may be viewed electronically at the docket established for this notice at http://www.regulations.gov. This closure will be undertaken in support of the BGP which will use the streets of downtown Baltimore as a race course. The MDTA is the owner and operator of I-395 and I-95 within the city of Baltimore.

The 2013 event is expected to attract 160,000 spectators over a 3-4 day period, not including the event organizer workforce and volunteers, the racing organizations and their respective personnel, or media and vendors. Event planners expect spectators from within a 400-mile radius of the city, with a large portion traveling the I-95 corridor. It is anticipated that the attendance for the peak day (Sunday) will reach 70,000 people with most arriving by private vehicle.

The construction and operation of the race course will create safety concerns by obstructing access from the I-395 northern terminus to the local street system including Howard Street, Conway Street, and Lee Street. However, an existing connection from I-395 to Martin Luther King Jr. Boulevard will remain open throughout the event. In addition, access to and from I-95 into and out of the city along alternative access routes, including US 1, US 40, Russell Street, and Washington Boulevard will be maintained. The BGP and the city plan to update the 2012 signing plan to inform and guide motorists to, through, and around the impacted downtown area. The statewide transportation operations system, the Coordinated Highways Action Response Team will provide real-time traffic information to motorists through dynamic message signs and highway advisory radio. The MDTA states that the temporary closure of this segment of I-395 to general traffic should have no impact on interstate commerce. The I-95 is the main north-south Interstate route in the region, and will remain open during the time period of the event. There are five additional I-95 interchanges, just to the north or south of I-395, with connections to the local street system including the arterials servicing the city's downtown area. A sign and supplemental traffic control systems plan was developed as part of the 2011 event's Traffic Management Plan (TMP). In addition, I-695 (Baltimore Beltway) will provide motorists traveling through the region the ability to bypass the impact area by circling around the city.

Commercial motor vehicles of the dimensions and configurations described in 23 CFR 658.13 and 658.15 which serve the impacted area, may use the alternate routes listed above. Vehicles servicing the businesses bordering the impacted area will still be able to do so by also using the alternative routes noted above to circulate around the restricted area. In addition, vehicles not serving businesses in the restricted area but, currently using I-395 and the local street system to reach their ultimate destinations, will be able to use the I-95 interchanges north and south of I-395 to access the alternative routes. A map depicting the alternative routes is available electronically at the docket established for this notice at http://www.regulations.gov. The MDTA has reviewed these alternative routes and determined the routes to generally be capable of safely accommodating the diverted traffic during the period of temporary restriction. As mentioned previously, the sign and supplemental traffic control system plan is also being updated as part of the event's TMP. Commercial vehicles as well as general traffic leaving the downtown area will also be able to use the alternative routes to reach I-95 and the rest of the Interstate System. The BGP and the city are working closely with businesses, including the hotels and restaurants located within the impact area, to schedule deliveries prior to the proposed I-395 closure to the extent feasible. The BGP is also working with affected businesses to schedule delivery services during the event period. The original plan proposed a credentialing process for access through designated gates with access to specific loading areas.

This request to temporarily close I-395 was prepared for the MDTA by the BGP and the city. In addition, the city has reached out to the Federal, State, and local agencies to collaborate and coordinate efforts to address the logistical challenges of hosting the BGP. The BGP and the city have worked extensively with the businesses and residential communities in the city that could be affected by the event. These efforts include the formation of Task Forces and event Sub-Committees, to guide the development of plans for event security, transportation management, public safety and more.

The FHWA seeks comments on this request for temporary deletion from the National Network for considerations in accordance with 23 CFR 658.11(d).

Authority: 23 U.S.C. 127, 315 and 49 U.S.C. 31111, 31112, and 31114; 23 CFR Part 658.

Issued on: May 3, 2013.
Victor M. Mendez,
Federal Highway Administrator.

[FR Doc. 2013-11243 Filed 5-10-13; 8:45 am]

BILLING CODE 4910-22-P